DEPARTMENT OF TRANSPORTATION

Federal Aviation Administration

14 CFR Part 39

[Docket No. FAA-2015-2208; Directorate Identifier 2015-NE-19-AD]

RIN 2120-AA64

Airworthiness Directives; Honeywell International Inc. (Type Certificate Previously Held by AlliedSignal Inc., Garrett Turbine Engine Company) Turbofan Engines

AGENCY: Federal Aviation Administration (FAA), DOT.

ACTION: Notice of proposed rulemaking (NPRM).

SUMMARY: We propose to adopt a new airworthiness directive (AD) for Honeywell International Inc. TFE731-4, -4R, -5AR, -5BR, and -5R turbofan engines. This proposed AD was prompted by a report of certain interstage turbine transition (ITT) ducts failing to meet containment capability requirements. This proposed AD would require replacing certain ITT ducts. We are proposing this AD to prevent failure of the ITT duct, which could lead to an uncontained part release, damage to the engine, and damage to the airplane.

DATES: We must receive comments on this proposed AD by December 28, 2015

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Honeywell International Inc., 111 S 34th Street Phoenix, AZ 85034-2802; phone: 800-601-3099; Internet: https://myaerospace.honeywell.com/wps/portal/!ut/. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2015-2208; or in person at the Docket Management Facility between 9 a.m. and 5 p.m., Monday through Friday, except Federal holidays. The AD docket contains this proposed AD, the regulatory evaluation, any comments received and other information. The street address for the Docket Office (phone: 800-647-5527) is in the ADDRESSES section. Comments will be available in the AD docket shortly after receipt.

FOR FURTHER INFORMATION CONTACT: Joseph Costa, Aerospace Engineer, Los Angeles Aircraft Certification Office, FAA, Transport Airplane Directorate, 3960 Paramount Blvd., Lakewood, CA 90712-4137; phone: 562-627-5246; fax: 562-627-5210; email: joseph.costa@faa.gov.

SUPPLEMENTARY INFORMATION:

Comments Invited

We invite you to send any written relevant data, views, or arguments about this NPRM. Send your comments to an address listed under the ADDRESSES section. Include “Docket No. FAA-2015-2208; Directorate Identifier 2015-NE-19-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

While the Honeywell Aerospace Olomouc facility in the Czech Republic was reworking certain ITT ducts, forgings that were not properly heat treated were installed on the affected engines. The heat treatment is necessary for the ITT ducts, part number (P/N) 3075292-4, to meet mechanical properties and the containment capability requirements of the ITT duct design. ITT ducts with unacceptable containment capability, if not corrected, could result in an uncontained part release, damage to the engine, and damage to the airplane.

Related Service Information Under 1 CFR Part 51

We reviewed Honeywell Service Bulletin (SB) No. TFE731-72-3789, dated March 23, 2015. The SB describes procedures for removing affected ITT ducts. This service information is reasonably available because the interested parties have access to it through their normal course of business or by the means identified in the ADDRESSES section of this NPRM.

FAA's Determination

We are proposing this NPRM because we evaluated all the relevant information and determined the unsafe condition described previously is likely to exist or develop in other products of the same type design.

Proposed AD Requirements

This NPRM would require replacing certain ITT ducts, P/N 3075292-4.

Costs of Compliance

We estimate that this proposed AD affects 47 engines installed on airplanes of U.S. registry. We also estimate that it would take about 2 hours per engine to comply with this proposed AD. The average labor rate is $85 per hour. We estimate that replacement parts would cost $15,000 per engine. Based on these figures, we estimate the total cost of the proposed AD to U.S. operators to be $712,990. Our cost estimate is exclusive of possible warranty coverage.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Honeywell International Inc. (Type Certificate previously held by AlliedSignal Inc., Garrett Turbine Engine Company): Docket No. FAA-2015-2208; Directorate Identifier 2015-NE-19-AD.

(a) Comments Due Date

We must receive comments by December 28, 2015.

(b) Affected ADs

None.

(c) Applicability

This AD applies to all Honeywell International Inc. TFE731-4, -4R, -5AR, -5BR, and -5R turbofan engines with an interstage turbine transition (ITT) duct, part number (P/N) 3075292-4, installed, with a serial number (S/N) listed in Table 2 of Honeywell Service Bulletin (SB) No. TFE731-72-3789, dated March 23, 2015.

(d) Unsafe Condition

This AD was prompted by a report of certain ITT ducts failing to meet containment capability requirements. We are issuing this AD to prevent failure of the ITT duct, which could lead to an uncontained part release, damage to the engine, and damage to the airplane.

(e) Compliance

Comply with this AD within the compliance times specified, unless already done.

(1) At the next removal of the ITT duct from the engine not to exceed 2,600 hours time-in-service after the effective date of this AD, remove the affected ITT duct and replace with a part eligible for installation.

(2) Reserved.

(f) Definitions

For the purpose of this AD a part eligible for installation is an ITT duct with an S/N that is not listed in Table 2 of Honeywell SB No. TFE731-72-3789, dated March 23, 2015 or, if listed in Table 2 of this SB, was reworked using Honeywell SB No. TFE731-72-3789, dated March 23, 2015.

(g) Installation Prohibition

After the effective date of this AD, do not install any ITT duct with an S/N listed in Table 2 of Honeywell SB No. TFE731-72-3789, dated March 23, 2015, onto any engine, unless the ITT duct is marked with the overhaul/repair instructions number “P35864” near the ITT duct P/N and S/N markings.

(h) Alternative Methods of Compliance (AMOCs)

The Manager, Los Angeles Aircraft Certification Office, FAA, may approve AMOCs for this AD. Use the procedures found in 14 CFR 39.19 to make your request.

(i) Related Information

(1) For more information about this AD, contact Joseph Costa, Aerospace Engineer, Los Angeles Aircraft Certification Office, FAA, Transport Airplane Directorate, 3960 Paramount Blvd., Lakewood, CA 90712-4137; phone: 562-627-5246; fax: 562-627-5210; email: joseph.costa@faa.gov.

(2) For service information identified in this AD contact Honeywell International Inc., 111 S 34th Street, Phoenix, AZ 85034-2802; phone: 800-601-3099; Internet: https://myaerospace.honeywell.com/wps/portal/!ut/.

(3) You may view this service information at the FAA, Engine & Propeller Directorate, 12 New England Executive Park, Burlington, MA. For information on the availability of this material at the FAA, call 781-238-7125.

Issued in Burlington, Massachusetts, on October 22, 2015.
Colleen M. D'Alessandro,
Directorate Manager, Engine & Propeller Directorate, Aircraft Certification Service.

[FR Doc. 2015-27555 Filed 10-28-15; 8:45 am]

BILLING CODE 4910-13-P